DEPARTMENT OF AGRICULTURE

Forest Service

Hood and Willamette Resource Advisory Committee

AGENCY: U.S. Forest Service, USDA.

ACTION: Notice of meeting.

SUMMARY: The Hood and Willamette Resource Advisory Committee (RAC) will be meeting virtually. The committee is authorized under the Secure Rural Schools and Community Self-Determination Act (the Act) and operates in compliance with the Federal Advisory Committee Act. The purpose of the committee is to improve collaborative relationships and to provide advice and recommendations to the U.S. Forest Service concerning projects and funding consistent with Title II of the Act. RAC information, can be found at the following website: https://www.fs.usda.gov/main/willamette/workingtogether/advisorycommittees.

DATES: The meetings will be held on:

• June 7, 2021 at 10:00 a.m., Pacific Daylight Time; and

• June 9, 2021 at 10:00 a.m., Pacific Daylight Time.

All RAC meetings are subject to cancellation. For status of the meeting prior to attendance, please contact the person listed under For Further Information Contact.

ADDRESSES: The meetings will be held virtually. Written comments may be submitted as described under Supplementary Information. All comments, including names and addresses when provided, are placed in the record and are available for public inspection and copying. The public may inspect comments received at the Willamette National Forest Supervisor's Office, 3106 Pierce Parkway, Suite D, Springfield, OR 97477.

FOR FURTHER INFORMATION CONTACT: Christine Meyers, Acting RAC Coordinator (until June 18, 2021), by email at christine.meyers@usda.gov; or Jennifer Sorensen, RAC Coordinator (post June 18, 2021), by email at jennifer.sorensen@usda.gov.

Individuals who use telecommunication devices for the hearing-imparied (TDD) may call the Federal Information Relay Service (FIRS) at 1-800-877-8339 between 8:00 a.m. and 8:00 p.m., Eastern Daylight Time, Monday through Friday.

SUPPLEMENTARY INFORMATION: The purpose of the meeting is to:

1. Introduce the RAC members to one another;

2. Review the rules and regulations surrounding the Secure Rural School Title II process and Charter;

3. Elect a Committee Chair;

4. Hear from project proponents; and

5. Discuss new Secure Rural Schools Title II projects.

The meetings are open to the public. The agendas will include time for people to make oral statements of three minutes or less. Individuals wishing to make an oral statement at any of the meetings should request to do so in writing by May 17, 2021, to be scheduled on the agenda for that particular meeting. Anyone who would like to bring related matters to the attention of the committee may file written statements with the committee staff before or after the meeting. Written comments and requests for oral comments may be submitted to Christine Meyers, Acting RAC Coordinator, by email, at: christine.meyers@usda.gov.

Meeting Accommodations: If you are a person requiring reasonable accommodation, please make requests in advance for sign language interpreting, assistive listening devices or other reasonable accommodation for access to the facility or proceedings by contacting the person listed in the section titled For Further Information Contact. All reasonable accommodation requests are managed on a case-by-case basis.

Dated: May 10, 2021.
Cikena Reid,
USDA Committee Management Officer.

[FR Doc. 2021-10107 Filed 5-12-21; 8:45 am]

BILLING CODE 3411-15-P